DEPARTMENT OF ENERGY

Federal Energy Regulatory Commission

Combined Notice of Filings

Take notice that the Commission has received the following Natural Gas Pipeline Rate and Refund Report filings:

Filings Instituting Proceedings

Docket Numbers: RP17-824-001.

Applicants: Eastern Shore Natural Gas Company.

Description: Eastern Shore Natural Gas Company submits tariff filing per 154.205(b): Amended Cash-Out Adjustment to be effective 7/1/2017.

Filed Date: 06/27/2017.

Accession Number: 20170627-5068.

Comment Date: 5:00 p.m. Eastern Time on Thursday, July 06 2017.

Docket Numbers: RP17-844-000.

Applicants: Southern LNG Company, L.L.C.

Description: Southern LNG Company, L.L.C. submits tariff filing per 154.204: Housekeeping Filing to be effective 8/1/2017.

Filed Date: 06/27/2017.

Accession Number: 20170627-5037.

Comment Date: 5:00 p.m. Eastern Time on Monday, July 10, 2017.

Docket Numbers: RP17-845-000.

Applicants: Natural Gas Pipeline Company of America.

Description: Natural Gas Pipeline Company of America LLC submits tariff filing per 154.204: Negotiated Rate Filing—Tallgras Interstate Gas Transmission to be effective 7/1/2017.

Filed Date: 06/27/2017.

Accession Number: 20170627-5046.

Comment Date: 5:00 p.m. Eastern Time on Monday, July 10, 2017.

Docket Numbers: RP17-846-000.

Applicants: Cargill, Incorporated, Macquarie Energy LLC.

Description: Joint Petition for Temporary Waiver of Capacity Release of Cargill, Incorporated, et al.

Filed Date: 06/27/2017.

Accession Number: 20170627-5078.

Comment Date: 5:00 p.m. Eastern Time on Monday, July 10, 2017.

Docket Numbers: RP17-847-000.

Applicants: Eastern Shore Natural Gas Company.

Description: Eastern Shore Natural Gas Company submits tariff filing per 154.204: Cash Out Adjustment—Alternate Case to be effective 7/1/2017.

Filed Date: 06/27/2017.

Accession Number: 20170627-5082.

Comment Date: 5:00 p.m. Eastern Time on Thursday, July 6, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 28, 2017.
Nathaniel J. Davis, Sr.,
Deputy Secretary.

[FR Doc. 2017-14081 Filed 7-3-17; 8:45 am]

BILLING CODE 6717-01-P